DEPARTMENT OF DEFENSE

Department of the Navy

[Docket ID: USN-2023-HQ-0013]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by July 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Marine Corps Safety Needs Assessment; OMB Control Number 0712-LMSA.

Type of Request: New.

Number of Respondents: 9,048.

Responses per Respondent: 1.

Annual Responses: 9,048.

Average Burden per Response: 0.25 hours.

Annual Burden Hours: 2,262 hours.

Needs and Uses: The Deputy Secretary of Defense recently directed implementation of Service tailored lethal means safety (LMS) plans, which leverage the Defense Suicide Prevention Office's (DSPO's) LMS suite of evidence-informed tools. In accordance with guidance, and with recommendations from the Government Accountability Office to assess the efficacy of nonclinical suicide prevention efforts, DSPO aims to help the Services conduct a thorough evaluation of their LMS outreach efforts.

DSPO has contracted with the Center for Naval Analyses (CNA) to conduct a study titled “Assessing the Implementation and Effectiveness of DoD's LMS Outreach Materials” to assist the Services in meeting the requirements set forth in DoD Instruction 6490.16 that all suicide prevention activities are developed from a relevant evidence-base and have an evaluation capability prior to implementation. CNA, in conjunction with the participating Services (i.e., Air Force, Army, Navy, and Special Operations Command), propose an information collection covering LMS evaluation activities specific to the needs of each respective Service to assess the implementation, acceptability, and/or effect of their specific LMS activities and materials.

This Federal Register Notice covers the evaluation activity specific to the Marine Corps.

Marine Corps suicide attempt rates are among the highest in the DoD, with most attempts occurring via firearm, there is a perception that existing LMS messaging and training are not resonating with Marines. In order to examine this trend within the Marine Corps and gather relevant baseline data for the larger DSPO initiative, CNA, in conjunction with the Marine Corps Marine and Family Programs Division (MFP), propose the information collection, “Marine Corps Safety Needs Assessment” survey. This voluntary survey examines current LMS program awareness, preferences for safety devices and locations, and the place of safety in Marine Corps culture.

This survey will assist MFP in identifying, from the perspective of Marines, the reach of current LMS efforts and the acceptability of potential LMS activities. The results of the survey will be used by MFP and DSPO to better understand which LMS activities and messages resonate with Marines, as well as serve as a baseline data for future LMS activity effectiveness evaluations in accordance with the standards of practice framework prescribed by DoD Instruction 6490.16.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: June 5, 2024.
Aaron T. Siegel,
Alternate OSD Federal Register Liaison Officer, Department of Defense.

[FR Doc. 2024-12918 Filed 6-12-24; 8:45 am]

BILLING CODE 6001-FR-P